DEPARTMENT OF ENERGY

Federal Energy Regulatory Commission

[Docket No. CP01-80-002]

East Tennessee Natural Gas Company; Notice of Compliance Filing

January 10, 2002.

Take notice that on January 4, 2002, East Tennessee Natural Gas Company (East Tennessee) tendered for filing as part of its FERC Gas Tariff, Second Revised Volume No. 1, the following tariff sheets proposed to be effective February 1, 2002:

Twenty-third Revised Sheet No. 4

Second Revised Sheet No. 4A

East Tennessee states that the purpose of this filing is to comply with the Commission's October 11, 2001 Order that authorized East Tennessee to construct, own, operate and maintain certain pipeline facilities to provide firm transportation service to the Murray Project shippers at the proposed initial incremental FT-A recourse rate of $7.646 or, on a daily demand basis, $0.2514.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-1076 Filed 1-15-02; 8:45 am]

BILLING CODE 6717-01-P